DEPARTMENT OF TRANSPORTATION

Federal Railroad Administration

49 CFR Parts 209, 213, 214, 215, 216, 217, 218, 219, 220, 221, 222, 223, 224, 225, 227, 228, 229, 230, 231, 232, 233, 234, 235, 236, 237, 238, 239, 240, 241, 242, 243, 244, and 272

[Docket No. FRA-2016-0021; Notice No. 1]

RIN 2130-AC59

Implementation of the Federal Civil Penalties Inflation Adjustment Act Improvements Act for a Violation of a Federal Railroad Safety Law or Federal Railroad Administration Safety Regulation or Order

AGENCY: Federal Railroad Administration (FRA), Department of Transportation (DOT).

ACTION: Interim final rule.

SUMMARY: To comply with the Federal Civil Penalties Inflation Adjustment Act of 1990, as amended by the Federal Civil Penalties Inflation Adjustment Act Improvements Act of 2015, FRA is adjusting the minimum, maximum, and aggravated maximum penalties that it will apply when assessing a civil penalty for a violation of a railroad safety statute, regulation, or order under its authority. In particular, FRA is increasing the minimum civil penalty per violation from $650 to $839, the ordinary maximum civil penalty per violation from $25,000 to $27,455, and the aggravated maximum civil penalty (i.e., the maximum civil penalty per violation where a grossly negligent violation or a pattern of repeated violations has created an imminent hazard of death or injury or has caused death or injury) from $105,000 to $109,819.

DATES: This interim final rule is effective August 1, 2016.

FOR FURTHER INFORMATION CONTACT: Veronica Chittim, Trial Attorney, Office of Chief Counsel, FRA, 1200 New Jersey Avenue SE., Mail Stop 10, Washington, DC 20590 (telephone 202-493-0273), veronica.chittim@dot.gov.

SUPPLEMENTARY INFORMATION: On November 2, 2015, President Barack Obama signed the Federal Civil Penalties Inflation Adjustment Act Improvements Act of 2015 (the 2015 Inflation Act). Public Law 114-74, Sec. 701. This amended the Federal Civil Penalties Inflation Adjustment Act of 1990 (Inflation Act) that required each agency to (1) adjust by regulation each maximum civil monetary penalty (CMP), or range of minimum and maximum CMPs, within that agency's jurisdiction by October 23, 1996, and (2) adjust those penalty amounts once every four years thereafter, to reflect inflation. See Public Law 101-410, 104 Stat. 890, 28 U.S.C. 2461, note, as amended by Section 31001(s)(1) of the Debt Collection Improvement Act of 1996, Public Law 104-134, 110 Stat. 1321-373, April 26, 1996. Under the 2015 Inflation Act, agencies must make a catch-up adjustment for CMPs with the new penalty levels published by July 1, 2016, to take effect no later than August 1, 2016. In addition, agencies must make annual inflation adjustments, starting January 15, 2017, based on Office of Management and Budget (OMB) guidance.

In the 2015 Inflation Act, Congress recognized the important role CMPs play in deterring violations of Federal laws, regulations, and orders and determined that inflation has diminished the impact of these penalties. In the Inflation Act, Congress countered the effect that inflation has had on the CMPs by having the agencies charged with enforcement responsibility administratively adjust the CMPs.

FRA is authorized as the delegate of the Secretary of Transportation to enforce the Federal railroad safety statutes, regulations, and orders, including the civil penalty provisions codified primarily at 49 U.S.C. 213. See 49 U.S.C. 103 and 49 CFR 1.89; 49 U.S.C. 201-213. FRA currently has safety regulations in 33 parts of the CFR that contain the agency's authority to impose civil penalties if a person violates any requirement in the pertinent portion of a statute or the CFR. In this interim final rule, FRA is amending each of the separate regulatory provisions and the corresponding footnotes in each Schedule of Civil Penalties appended to those regulations to raise the minimum CMP to $839, ordinary maximum CMP to $27,455, and aggravated maximum CMP to $109,819. Where applicable, FRA is amending the corresponding appendices to those regulatory provisions which outline FRA enforcement policy. See 49 CFR part 209, app. A; 49 CFR part 228, app. A.

Description of the Adjustment Calculation

The 2015 Inflation Act requires FRA to calculate the inflation adjustment by increasing the maximum CMP, or the range of minimum and maximum CMPs, based on the Consumer Price Index for the month of October 2015, not seasonally adjusted. The calculation uses multipliers to adjust the maximum CMP, or the range of minimum and maximum CMPs, based on the year the penalty was established or last adjusted by statute or regulation other than under the Inflation Act. FRA's minimum CMP ($500) was last adjusted by statute in 1992. See Rail Safety Enforcement and Review Act, Public Law 102-365, 106 Stat. 972 (Sept. 3, 1992), Sec. 4(a). The ordinary maximum CMP ($25,000) and aggravated maximum CMP ($100,000) were last adjusted by statute in 2008. See Rail Safety Improvement Act of 2008 (RSIA of 2008), Public Law 110-342, Div. A, 122 Stat. 4848, (Oct. 16, 2008), Sec. 302; 73 FR 79698 (Dec. 30, 2008). OMB guidance, M-16-06, “Implementation of the Federal Civil Penalties Inflation Adjustment Act Improvements Act of 2015,” dated Feb. 24, 2016, states that after applying the multiplier, FRA must round the penalty levels to the nearest dollar.¹ The 2015 Inflation Act also specifies that agencies shall not increase penalty levels by more than 150 percent of the corresponding levels in effect on November 2, 2015. The 150 percent limit applies to the amount of the increase. If the new amount or range of the increase exceeds 150 percent above the last reported level(s), the new amount or range should be reduced to 150 percent over the last reported level(s). The resulting penalty level(s) in that case would be 250 percent of the last reported level(s).

¹ Available at https://www.whitehouse.gov/sites/default/files/omb/memoranda/2016/m-16-06.pdf. See also Public Law 114-74, Sec. 701.

Applying the inflation adjustment calculation, FRA determined the minimum CMP should be increased to $839; the ordinary maximum CMP should be increased to $27,455; and the aggravated maximum CMP should be increased to $109,819, as the following calculations show.

Calculations To Determine CMP Updates for 2016

1. Minimum CMP of $650 Raised to $839

As the 2015 Inflation Act requires, FRA evaluated the minimum CMP and concluded it should increase to $839, as the next calculations show. The 1992 multiplier of 1.67728 (since the last update not for inflation was in 1992) times $500 equals $838.64, or $839 rounded to the nearest dollar. The statutory 150 percent ceiling would be $650 (the penalty level in effect on November 2, 2015, including Inflation Act increases), times 2.5, or $1,625. Because $839 is less than the $1,625 ceiling, the 150 percent limit does not apply. The inflation adjusted minimum penalty is $839, and applies to all the rail safety statutes, regulations, and orders. See appendix to this interim final rule. Thus, FRA's minimum CMP increases from $650 to $839. This new FRA minimum penalty will apply to violations that occur on or after August 1, 2016.

2. Ordinary Maximum CMP of $25,000 Raised to $27,455

As required by the 2015 Inflation Act, FRA evaluated the ordinary maximum CMP and determined it should increase to $27,455, as the following calculations show. The 2008 multiplier of 1.09819 (since the last update not for inflation was in 2008) times $25,000 equals $27,454.75, or $27,455 rounded to the nearest dollar. The statutory 150 percent ceiling would be $25,000 (the penalty level in effect on November 2, 2015, including Inflation Act increases), times 2.5, or $62,500. Because $27,455 is less than the $62,500 ceiling, the 150 percent limit does not apply. The inflation adjusted ordinary maximum penalty is $27,455, and applies to all the rail safety statutes, regulations, and orders. See appendix to this interim final rule. Therefore, the ordinary maximum CMP increases from $25,000 to $27,455. This new FRA ordinary maximum penalty will apply to violations that occur on or after August 1, 2016.

3. Aggravated Maximum CMP of $105,000 Raised to $109,819

FRA also evaluated the CMP for an aggravated violation and determined it should increase to $109,819, as the following calculations show. The 2008 multiplier of 1.09819 (since the last update not for inflation was in 2008) times $100,000 equals $109,819. The statutory 150 percent ceiling would be $105,000 (the penalty level in effect on November 2, 2015, including Inflation Act increases), times 2.5, or $262,500. Because $109,819 is less than the $262,500 ceiling, the 150 percent limit does not apply. The inflation adjusted aggravated maximum penalty is $109,819, and applies to all the rail safety statutes, regulations, and orders. See appendix to this interim final rule. Therefore, the aggravated maximum increases from $105,000 to $109,819. This new FRA aggravated maximum penalty will apply to violations that occur on or after August 1, 2016.

Public Participation

FRA is proceeding to an interim final rule without providing a notice of proposed rulemaking or an opportunity for public comment. The adjustments the 2015 Inflation Act requires are ministerial acts over which FRA has no discretion, making public comment unnecessary. As such, notice and comment procedures are “impracticable, unnecessary, or contrary to the public interest” within the meaning of the Administrative Procedure Act (APA), 5 U.S.C. 553(b)(3)(B). FRA is issuing these amendments as an interim final rule applicable to all future rail safety civil penalty cases under its authority to cite for violations that occur on or after the effective date of this interim final rule.

Regulatory Impact

A. Executive Orders 12866 and 13563 and DOT Regulatory Policies and Procedures

This interim final rule has been evaluated consistent with Executive Order 12866 (Regulatory Planning and Review), Executive Order 13563 (Improving Regulation and Regulatory Review), and DOT policies and procedures. It is not considered a significant regulatory action under section 3(f) of Executive Order 12866. The rule is expected to have minimal economic impacts. Additionally, FRA has no discretion to change the amount by which the CMPs are updated due to the clear direction in the 2015 Inflation Act and OMB memorandum M-16-06. Further, this rule is not significant under the Regulatory Policies and Procedures of the Department of Transportation (44 FR 11034; Feb. 26, 1979) because it is limited to ministerial acts on which the agency has no discretion, and the economic impact of the interim final rule is minimal to the extent that preparation of a regulatory evaluation is not warranted.

B. Regulatory Flexibility Act and Executive Order 13272

The Regulatory Flexibility Act of 1980 (RFA), Public Law 96-354, as amended, and codified as amended at 5 U.S.C. 601-612, and Executive Order 13272 (Proper Consideration of Small Entities in Agency Rulemaking), require agency review of proposed and final rules to assess their impact on “small entities” for purposes of the RFA. An agency must prepare a regulatory flexibility analysis unless it determines and certifies that a rule is not expected to have a significant economic impact on a substantial number of small entities. FRA does not expect this interim final rule will have a significant economic impact on a substantial number of small entities. Although this interim final rule will apply to railroads and others that are considered small entities, there is no economic impact on any person who complies with the Federal railroad safety laws and the regulations and orders issued under those laws.

In addition, FRA has determined the RFA does not apply to this rulemaking. The 2015 Inflation Act requires FRA to publish an interim final rule and does not require FRA to complete notice and comment procedures under the APA. The Small Business Administration's A Guide for Government Agencies: How To Comply With the Regulatory Flexibility Act (2003), provides that:

If, under the APA or any rule of general applicability governing federal grants to state and local governments, the agency is required to publish a general notice of proposed rulemaking (NPRM), the RFA must be considered [citing 5 U.S.C. 604(a)] . . . . If an NPRM is not required, the RFA does not apply.

Therefore, because the 2015 Inflation Act does not require an NPRM for this rulemaking, the RFA does not apply.

C. Federalism

This interim final rule will not have a substantial effect on the States, on the relationship between the national government and the States, or the distribution of power and responsibilities among the various levels of government. Thus, consistent with Executive Order 13132 (Federalism), preparation of a Federalism assessment is not warranted.

D. Paperwork Reduction Act

There are no new information collection requirements in this interim final rule to submit for OMB review under the Paperwork Reduction Act of 1995 (44 U.S.C. 3501 et seq.).

E. Unfunded Mandates Reform Act of 1995

This final rule will not result in the expenditure, in the aggregate, of $156,000,000 or more in any one year by State, local, or Indian Tribal governments, or the private sector. Thus, consistent with Section 202 of the Unfunded Mandates Reform Act of 1995 (Pub.L. 104-4, 2 U.S.C. 1532), preparation of a written statement detailing the effect of such an expenditure is not warranted.

F. Environmental Impact

FRA has evaluated this interim final rule under the National Environmental Policy Act (NEPA; 42 U.S.C. 4321 et seq.), other environmental statutes, related regulatory requirements, and its “Procedures for Considering Environmental Impacts” (FRA's Procedures) (64 FR 28545; May 26, 1999). FRA has determined that this interim final rule is categorically excluded from detailed environmental review pursuant to section 4(c)(20) of FRA's NEPA Procedures, “Promulgation of railroad safety rules and policy statements that do not result in significantly increased emissions of air or water pollutants or noise or increased traffic congestion in any mode of transportation.” See 64 FR 28547 (May 26, 1999). Categorical exclusions (CEs) are actions identified in an agency's NEPA implementing procedures that do not normally have a significant impact on the environment and therefore do not require either an environmental assessment (EA) or environmental impact statement (EIS). See 40 CFR 1508.4.

In analyzing the applicability of a CE, the agency must also consider whether extraordinary circumstances are present that would warrant a more detailed environmental review through the preparation of an EA or EIS. See id. Under section 4(c) and (e) of FRA's Procedures, FRA has further concluded that no extraordinary circumstances exist with respect to this regulation that might trigger the need for a more detailed environmental review. The purpose of this rulemaking is to comply with the Inflation Act, as amended by the 2015 Inflation Act. Specifically, FRA is adjusting the minimum, maximum, and aggravated maximum penalty that it will apply when assessing a civil penalty for a violation of a railroad safety statute, regulation, or order under its authority. FRA does not anticipate any environmental impacts from this requirement and finds there are no extraordinary circumstances present in connection with this interim final rule.

G. Executive Order 12898 (Environmental Justice)

Executive Order 12898, Federal Actions to Address Environmental Justice in Minority Populations and Low-Income Populations, and DOT Order 5610.2(a) (91 FR 27534; May 10, 2012) require DOT agencies to achieve environmental justice as part of their mission by identifying and addressing, as appropriate, disproportionately high and adverse human health or environmental effects, including interrelated social and economic effects, of their programs, policies, and activities on minority populations and low-income populations. The DOT Order instructs DOT agencies to address compliance with Executive Order 12898 and requirements within the DOT Order in rulemaking activities, as appropriate. FRA has evaluated this interim final rule under Executive Order 12898 and the DOT Order and has determined that it would not cause disproportionately high and adverse human health and environmental effects on minority populations or low-income populations.

H. Executive Order 13175 (Tribal Consultation)

FRA has evaluated this interim final rule under the principles and criteria contained in Executive Order 13175, Consultation and Coordination with Indian Tribal Governments, dated November 6, 2000. The interim final rule would not have a substantial direct effect on one or more Indian tribes, would not impose substantial direct compliance costs on Indian tribal governments, and would not preempt tribal laws. Therefore, the funding and consultation requirements of Executive Order 13175 do not apply, and a tribal summary impact statement is not required.

List of Subjects

49 CFR Part 209

Administrative practice and procedure, Hazardous materials transportation, Penalties, Railroad safety, Reporting and recordkeeping requirements.

49 CFR Part 213

Bridges, Penalties, Railroad safety, Reporting and recordkeeping requirements.

49 CFR Part 214

Bridges, Occupational safety and health, Penalties, Railroad safety, Reporting and recordkeeping requirements.

49 CFR Part 215

Freight, Penalties, Railroad safety, Reporting and recordkeeping requirements.

49 CFR Part 216

Penalties, Railroad safety, Reporting and recordkeeping requirements.

49 CFR Part 217

Penalties, Railroad safety, Reporting and recordkeeping requirements.

49 CFR Part 218

Occupational safety and health, Penalties, Railroad employees, Railroad safety, Reporting and recordkeeping requirements.

49 CFR Part 219

Alcohol abuse, Drug abuse, Drug testing, Penalties, Railroad safety, Reporting and recordkeeping requirements, Safety, Transportation.

49 CFR Part 220

Penalties, Radio, Railroad safety, Reporting and recordkeeping requirements.

49 CFR Part 221

Penalties, Railroad safety, Reporting and recordkeeping requirements.

49 CFR Part 222

Administrative practice and procedure, Penalties, Railroad safety, Reporting and recordkeeping requirements.

49 CFR Part 223

Glazing standards, Penalties, Railroad safety, Reporting and recordkeeping requirements.

49 CFR Part 224

Penalties, Railroad safety, Reporting and recordkeeping requirements.

49 CFR Part 225

Investigations, Penalties, Railroad safety, Reporting and recordkeeping requirements.

49 CFR Part 227

Noise control, Occupational safety and health, Penalties, Railroad safety, Reporting and recordkeeping requirements.

49 CFR Part 228

Penalties, Railroad employees, Reporting and recordkeeping requirements.

49 CFR Part 229

Penalties, Railroad safety, Reporting and recordkeeping requirements.

49 CFR Part 230

Penalties, Railroad safety, Reporting and recordkeeping requirements.

49 CFR Part 231

Penalties, Railroad safety.

49 CFR Part 232

Penalties, Railroad safety, Reporting and recordkeeping requirements.

49 CFR Part 233

Penalties, Railroad safety, Reporting and recordkeeping requirements.

49 CFR Part 234

Highway safety, Penalties, Railroad safety, Reporting and recordkeeping requirements, State and local governments.

49 CFR Part 235

Administrative practice and procedure, Penalties, Railroad safety, Railroad signals, Reporting and recordkeeping requirements.

49 CFR Part 236

Penalties, Positive train control, Railroad safety, Reporting and recordkeeping requirements.

49 CFR Part 237

Bridges, Penalties, Railroad safety, Reporting and recordkeeping requirements.

49 CFR Part 238

Fire prevention, Penalties, Railroad safety, Reporting and recordkeeping requirements.

49 CFR Part 239

Penalties, Railroad safety, Reporting and recordkeeping requirements.

49 CFR Part 240

Administrative practice and procedure, Penalties, Railroad employees, Railroad safety, Reporting and recordkeeping requirements.

49 CFR Part 241

Communications, Penalties, Railroad safety, Reporting and recordkeeping requirements.

49 CFR Part 242

Administrative practice and procedure, Penalties, Railroad employees, Railroad safety, Reporting and recordkeeping requirements.

49 CFR Part 243

Administrative practice and procedure, Penalties, Railroad employees, Railroad safety, Reporting and recordkeeping requirements.

49 CFR Part 244

Administrative practice and procedure, Penalties, Railroad safety, Reporting and recordkeeping requirements.

49 CFR Part 272

Penalties, Railroad employees, Railroad safety, Railroads, Safety, Transportation.

The Interim Final Rule

In consideration of the foregoing, parts 209, 213, 214, 215, 216, 217, 218, 219, 220, 221, 222, 223, 224, 225, 227, 228, 229, 230, 231, 232, 233, 234, 235, 236, 237, 238, 239, 240, 241, 242, 243, 244, and 272 of subtitle B, chapter II of title 49 of the Code of Federal Regulations are amended as follows:

PART 209—[AMENDED]

1. The authority citation for part 209 continues to read as follows:

Authority: 49 U.S.C. 5123, 5124, 20103, 20107, 20111, 20112, 20114; 28 U.S.C. 2461, note; and 49 CFR 1.89.

§ 209.409 [Amended]

2. Amend § 209.409 as follows:

a. Remove the numerical amount “$650” and add in its place the numerical amount “$839”.

b. Remove the numerical amount “$25,000” and add in its place the numerical amount “$27,455”; and

c. Remove the numerical amount “$105,000” and add in its place the numerical amount “$109,819”.

3. In appendix A to part 209, amend the section on “Penalty Schedules: Assessment of Maximum Penalties” by:

a. Redesignating the sixth through ninth paragraphs as the seventh through tenth paragraphs;

b. Adding a new sixth paragraph;

c. Revising the third sentence of the redesignated seventh paragraph;

d. Revising the first sentence of the redesignated tenth paragraph; and

e. Removing the second sentence of the redesignated tenth paragraph.

The revisions and additions read as follows:

Appendix A to Part 209—Statement of Agency Policy Concerning Enforcement of the Federal Railroad Safety Laws

* * * * *

Penalty Schedules; Assessment of Maximum Penalties

* * * * *

On November 2, 2015, President Barack Obama signed the Federal Civil Penalties Inflation Adjustment Act Improvements Act of 2015 (the 2015 Inflation Act). Public Law 114-74, Sec. 701. Under the 2015 Inflation Act, agencies must make a catch-up adjustment for civil monetary penalties with the new penalty levels published by July 1, 2016, to take effect no later than August 1, 2016. Moving forward, agencies must make annual inflationary adjustments, starting January 15, 2017, based on Office of Management and Budget guidance. Under the 2015 Inflation Act, effective August 1, 2016, the minimum civil monetary penalty was raised from $650 to $839, the ordinary maximum civil monetary penalty was raised from $25,000 to $27,455, and the aggravated maximum civil monetary penalty was raised from $105,000 to $109,819. * * * For each regulation or order, the schedule shows two amounts within the $839 to $27,455 range in separate columns, the first for ordinary violations, the second for willful violations (whether committed by railroads or individuals). * * *

* * * * *

Accordingly, under each of the schedules (ordinarily in a footnote), and regardless of the fact that a lesser amount might be shown in both columns of the schedule, FRA reserves the right to assess the statutory maximum penalty of up to $109,819 per violation where a pattern of repeated violations or a grossly negligent violation has created an imminent hazard of death or injury or has caused death or injury. * * *

* * * * *

Appendix B to Part 209—[Amended]

4. In appendix B to part 209, amend footnote 1 as follows:

a. Remove the numerical amount “$650” and add in its place the numerical amount “$839”;

b. Remove the numerical amount “$25,000” and add in its place the numerical amount “$27,455”; and

c. Remove the numerical amount “$105,000” and add in its place the numerical amount “$109,819”.

PART 213—[AMENDED]

5. The authority citation for part 213 continues to read as follows:

Authority: 49 U.S.C. 20102-20114 and 20142; Sec. 403, Div. A, Public Law 110-432, 122 Stat. 4885; 28 U.S.C. 2461, note; and 49 CFR 1.89.

§ 213.15 [Amended]

6. In § 213.15, amend paragraph (a) as follows:

a. Remove the numerical amount “$650” and add in its place the numerical amount “$839”;

b. Remove the numerical amount “$25,000” and add in its place the numerical amount “$27,455”; and

c. Remove the numerical amount “$105,000” and add in its place the numerical amount “$109,819”.

Appendix B to Part 213—[Amended]

7. In appendix B to part 213, amend footnote 1 by removing the numerical amount “$105,000” and adding in its place the numerical amount “$109,819”.

PART 214—[AMENDED]

8. The authority citation for part 214 continues to read as follows:

Authority: 49 U.S.C. 20103, 20107, 21301, 31304; 28 U.S.C. 2461, note; and 49 CFR 1.89.

§ 214.5 [Amended]

9. Amend § 214.5 as follows:

a. Remove the numerical amount “$650” and add in its place the numerical amount “$839”;

b. Remove the numerical amount “$25,000” and add in its place the numerical amount “$27,455”; and

c. Remove the numerical amount “$105,000” and add in its place the numerical amount “$109,819”.

Appendix A to Part 214—[Amended]

10. In appendix A to part 214, amend footnote 1 by removing the numerical amount “$105,000” and adding in its place the numerical amount “$109,819”.

PART 215—[AMENDED]

11. The authority citation for part 215 is revised to read as follows:

Authority: 49 U.S.C. 20103, 20107; 28 U.S.C. 2461, note; and 49 CFR 1.89.

§ 215.7 [Amended]

12. Amend § 215.7 as follows:

a. Remove the numerical amount “$650” and add in its place the numerical amount “$839”;

b. Remove the numerical amount “$25,000” and add in its place the numerical amount “$27,455”; and

c. Remove the numerical amount “$105,000” and add in its place the numerical amount “$109,819”.

Appendix B to Part 215—[Amended]

13. In appendix B to part 215, amend footnote 1 as follows:

a. Remove the numerical amount “$16,000” and add in its place the numerical amount “$27,455”; and

b. Remove the numerical amount “$105,000” and add in its place the numerical amount “$109,819”.

PART 216—[AMENDED]

14. The authority citation for part 216 is revised to read as follows:

Authority: 49 U.S.C. 20102-20104, 20107, 20111, 20133, 20701-20702, 21301-21302, 21304; 28 U.S.C. 2461, note; and 49 CFR 1.89.

§ 216.7 [Amended]

15. Amend § 216.7 as follows:

a. Remove the numerical amount “$650” and add in its place the numerical amount “$839”;

b. Remove the numerical amount “$25,000” and add in its place the numerical amount “$27,455”; and

c. Remove the numerical amount “$105,000” and add in its place the numerical amount “$109,819”.

PART 217—[AMENDED]

16. The authority citation for part 217 is revised to read as follows:

Authority: 49 U.S.C. 20103, 20107; 28 U.S.C. 2461, note; and 49 CFR 1.89.

§ 217.5 [Amended]

17. Amend § 217.5 as follows:

a. Remove the numerical amount “$650” and add in its place the numerical amount “$839”;

b. Remove the numerical amount “$25,000” and add in its place the numerical amount “$27,455”; and

c. Remove the numerical amount “$105,000” and add in its place the numerical amount “$109,819”.

Appendix A to Part 217—[Amended]

18. In appendix A to part 217, amend footnote 1 by removing the numerical amount “$105,000” and adding in its place the numerical amount “$109,819”.

PART 218—[AMENDED]

19. The authority citation for part 218 is revised to read as follows:

Authority: 49 U.S.C. 20103, 20107; 28 U.S.C. 2461, note; and 49 CFR 1.89.

§ 218.9 [Amended]

20. Amend § 218.9 as follows:

a. Remove the numerical amount “$650” and add in its place the numerical amount “$839”;

b. Remove the numerical amount “$25,000” and add in its place the numerical amount “$27,455”; and

c. Remove the numerical amount “$105,000” and add in its place the numerical amount “$109,819”.

Appendix A to Part 218—[Amended]

21. In appendix A to part 218, amend footnote 1 by removing the numerical amount “$105,000” and adding in its place the numerical amount “$109,819”.

PART 219—[AMENDED]

22. The authority citation for part 219 continues to read as follows:

Authority: 49 U.S.C. 20102-20103, 20107, 20140, 21301, 21304, 21311; 28 U.S.C. 2461, note; and 49 CFR 1.89.

§ 219.9 [Amended]

23. In § 219.9, amend paragraph (a) as follows:

a. Remove the numerical amount “$650” and add in its place the numerical amount “$839”;

b. Remove the numerical amount “$25,000” and add in its place the numerical amount “$27,455”; and

c. Remove the numerical amount “$105,000” and add in its place the numerical amount “$109,819”.

Appendix A to Part 219—[Amended]

24. In appendix A to part 219, amend footnote 1 by removing the numerical amount “$105,000” and adding in its place the numerical amount “$109,819”.

PART 220—[AMENDED]

25. The authority citation for part 220 is revised to read as follows:

Authority: 49 U.S.C. 20102-20103, 20103, note, 20107, 21301-21302, 20701-20703, 21304, 21311; 28 U.S.C. 2461, note; and 49 CFR 1.89.

§ 220.7 [Amended]

26. Amend § 220.7 as follows:

a. Remove the numerical amount “$650” and add in its place the numerical amount “$839”;

b. Remove the numerical amount “$25,000” and add in its place the numerical amount “$27,455”; and

c. Remove the numerical amount “$105,000” and add in its place the numerical amount “$109,819”.

Appendix C to Part 220—[Amended]

27. In appendix C to part 220, amend footnote 1 by removing the numerical amount “$105,000” and adding in its place the numerical amount “$109,819”.

PART 221—[AMENDED]

28. The authority citation for part 221 is revised to read as follows:

Authority: 49 U.S.C. 20103, 20107; 28 U.S.C. 2461, note; and 49 CFR 1.89.

§ 221.7 [Amended]

29. Amend § 221.7 as follows:

a. Remove the numerical amount “$650” and add in its place the numerical amount “$839”;

b. Remove the numerical amount “$25,000” and add in its place the numerical amount “$27,455”; and

c. Remove the numerical amount “$105,000” and add in its place the numerical amount “$109,819”.

Appendix C to Part 221—[Amended]

30. In appendix C to part 221, amend footnote 1 by removing the numerical amount “$105,000” and adding in its place the numerical amount “$109,819”.

PART 222—[AMENDED]

31. The authority citation for part 222 is revised to read as follows:

Authority: 49 U.S.C. 20103, 20107, 20153, 21301, 21304; 28 U.S.C. 2461, note; and 49 CFR 1.89.

§ 222.11 [Amended]

32. Amend § 222.11 as follows:

a. Remove the numerical amount “$650” and add in its place the numerical amount “$839”;

b. Remove the numerical amount “$25,000” and add in its place the numerical amount “$27,455”; and

c. Remove the numerical amount “$105,000” and add in its place the numerical amount “$109,819”.

Appendix H to Part 222—[Amended]

33. In appendix H to part 222, amend footnote 1 by removing the numerical amount “$105,000” and adding in its place the numerical amount “$109,819”

PART 223—[AMENDED]

34. The authority citation for part 223 continues to read as follows:

Authority: 49 U.S.C. 20102-20103, 20133, 20701-20702, 21301-21302, 21304; 28 U.S.C. 2461, note; and 49 CFR 1.89.

§ 223.7 [Amended]

35. Amend § 223.7 as follows:

a. Remove the numerical amount “$650” and add in its place the numerical amount “$839”;

b. Remove the numerical amount “$25,000” and add in its place the numerical amount “$27,455”; and

c. Remove the numerical amount “$105,000” and add in its place the numerical amount “$109,819”.

Appendix B to Part 223—[Amended]

36. In appendix B to part 223, amend footnote 1 by removing the numerical amount “$105,000” and adding in its place the numerical amount “$109,819”.

PART 224—[AMENDED]

37. The authority citation for part 224 is revised to read as follows:

Authority: 49 U.S.C. 20103, 20107, 20148 and 21301; 28 U.S.C. 2461, note; and 49 CFR 1.89.

§ 224.11 [Amended]

38. In § 224.11, amend paragraph (a) as follows:

a. Remove the numerical amount “$650” and add in its place the numerical amount “$839”;

b. Remove the numerical amount “$25,000” and add in its place the numerical amount “$27,455”; and

c. Remove the numerical amount “$105,000” and add in its place the numerical amount “$109,819”.

Appendix A to Part 224—[Amended]

39. In appendix A to part 224, amend footnote 1 by removing the numerical amount “$105,000” and adding in its place the numerical amount “$109,819”.

PART 225—[AMENDED]

40. The authority citation for part 225 continues to read as follows:

Authority: 49 U.S.C. 103, 322(a), 20103, 20107, 20901-20902, 21301, 21302, 21311; 28 U.S.C. 2461, note; and 49 CFR 1.89.

§ 225.29 [Amended]

41. Amend § 225.29 as follows:

a. Remove the numerical amount “$650” and add in its place the numerical amount “$839”;

b. Remove the numerical amount “$25,000” and add in its place the numerical amount “$27,455”; and

c. Remove the numerical amount “$105,000” and add in its place the numerical amount “$109,819”.

Appendix A to Part 225—[Amended]

42. In appendix A to part 225, amend footnote 1 by removing the numerical amount “$105,000” and adding in its place the numerical amount “$109,819”.

PART 227—[AMENDED]

43. The authority citation for part 227 is revised to read as follows:

Authority: 49 U.S.C. 20103, 20103, note, 20701-20702; 28 U.S.C. 2461, note; and 49 CFR 1.89.

§ 227.9 [Amended]

44. In § 227.9, amend paragraph (a) as follows:

a. Remove the numerical amount “$650” and add in its place the numerical amount “$839”;

b. Remove the numerical amount “$25,000” and add in its place the numerical amount “$27,455”; and

c. Remove the numerical amount “$105,000” and add in its place the numerical amount “$109,819”.

Appendix G to Part 227—[Amended]

45. In appendix G to part 227, amend footnote 1 by removing the numerical amount “$105,000” and adding in its place the numerical amount “$109,819”.

PART 228—[AMENDED]

46. The authority citation for part 228 is revised to read as follows:

Authority: 49 U.S.C. 103, 20103, 20107, 21101-21109; Sec. 108, Div. A, Public Law 110-432, 122 Stat. 4860-4866, 4893-4894; 49 U.S.C. 21301, 21303, 21304, 21311; 28 U.S.C. 2461, note; and 49 CFR 1.89.

§ 228.6 [Amended]

47. In § 228.6, amend paragraph (a) as follows:

a. Remove the numerical amount “$650” and add in its place the numerical amount “$839”;

b. Remove the numerical amount “$25,000” and add in its place the numerical amount “$27,455”; and

c. Remove the numerical amount “$105,000” and add in its place the numerical amount “$109,819”.

Appendix A to Part 228—[Amended]

48. In appendix A to part 228, below the heading “GENERAL PROVISIONS,” amend the “Penalty” paragraph by adding two sentences to read as follows:

Appendix A to Part 228—Requirements of the Hours of Service Act: Statement of Agency Policy and Interpretation

* * * * *

General Provisions

* * * * *

Penalty. * * * Pursuant to the Federal Civil Penalties Inflation Adjustment Act Improvements Act of 2015, effective August 1, 2016, the minimum penalty was raised from $650 to $839, the ordinary maximum penalty was raised from $25,000 to $27,455, and the aggravated maximum penalty was raised from $105,000 to $109,819. See Public Law 114-74, Sec. 701, November 2, 2015.

* * * * *

Appendix B to Part 228—[Amended]

49. In appendix B to part 228, amend footnote 1 by removing the numerical amount “$105,000” and adding in its place the numerical amount “$109,819”.

PART 229—[AMENDED]

50. The authority citation for part 229 continues to read as follows:

Authority: 49 U.S.C. 103, 322(a), 20103, 20107, 20901-02, 21301, 21301, 21302, 21311; 28 U.S.C. 2461, note; and 49 CFR 1.89.

§ 229.7 [Amended]

51. In § 229.7, amend paragraph (b) as follows:

a. Remove the numerical amount “$650” and add in its place the numerical amount “$839”;

b. Remove the numerical amount “$25,000” and add in its place the numerical amount “$27,455”; and

c. Remove the numerical amount “$105,000” and add in its place the numerical amount “$109,819”.

Appendix B to Part 229—[Amended]

52. In appendix B to part 229, amend footnote 1 as follows:

a. Remove the numerical amount “$16,000” and add in its place the numerical amount “$27,455”; and

b. Remove the numerical amount “$105,000” and add in its place the numerical amount “$109,819”

PART 230—[AMENDED]

53. The authority citation for part 230 is revised to read as follows:

Authority: 49 U.S.C. 20103, 20107, 20702; 28 U.S.C. 2461, note; and 49 CFR 1.89.

§ 230.4 [Amended]

54. In § 230.4, amend paragraph (a) as follows:

a. Remove the numerical amount “$650” and add in its place the numerical amount “$839”;

b. Remove the numerical amount “$25,000” and add in its place the numerical amount “$27,455”; and

c. Remove the numerical amount “$105,000” and add in its place the numerical amount “$109,819”.

PART 231—[AMENDED]

55. The authority citation for part 231 is revised to read as follows:

Authority: 49 U.S.C. 20102-20103, 20107, 20131, 20301-20303, 21301-21302, 21304; 28 U.S.C. 2461, note; and 49 CFR 1.89.

§ 231.0 [Amended]

56. In § 231.0, amend paragraph (f) as follows:

a. Remove the numerical amount “$650” and add in its place the numerical amount “$839”;

b. Remove the numerical amount “$25,000” and add in its place the numerical amount “$27,455”; and

c. Remove the numerical amount “$105,000” and add in its place the numerical amount “$109,819”.

Appendix A to Part 231—[Amended]

57. In appendix A to part 231, amend footnote 1 by removing the numerical amount “$105,000” and adding in its place the numerical amount “$109,819”.

PART 232—[AMENDED]

58. The authority citation for part 232 continues to read as follows:

Authority: 49 U.S.C. 20102-20103, 20107, 20133, 20141, 20301-20303, 20306, 21301-21302, 21304; 28 U.S.C. 2461, note; and 49 CFR 1.89.

§ 232.11 [Amended]

59. In § 232.11, amend paragraph (a) as follows:

a. Remove the numerical amount “$650” and add in its place the numerical amount “$839”;

b. Remove the numerical amount “$25,000” and add in its place the numerical amount “$27,455”; and

c. Remove the numerical amount “$105,000” and add in its place the numerical amount “$109,819”.

Appendix A to Part 232—[Amended]

60. In appendix A to part 232, amend footnote 1 as follows:

a. Remove the numerical amount “$25,000” and add in its place the numerical amount “$27,455”; and

b. Remove the numerical amount “$105,000” and add in its place the numerical amount “$109,819”.

PART 233—[AMENDED]

61. The authority citation for part 233 continues to read as follows:

Authority: 49 U.S.C. 504, 522, 20103, 20107, 20501-20505, 21301, 21302, 21311; 28 U.S.C. 2461, note; and 49 CFR 1.89.

§ 233.11 [Amended]

62. Amend § 233.11 as follows:

a. Remove the numerical amount “$650” and add in its place the numerical amount “$839”;

b. Remove the numerical amount “$25,000” and add in its place the numerical amount “$27,455”; and

c. Remove the numerical amount “$105,000” and add in its place the numerical amount “$109,819”.

Appendix A to Part 233—[Amended]

63. In appendix A to part 233, amend footnote 1 by removing the numerical amount “$105,000” and adding in its place the numerical amount “$109,819”.

PART 234—[AMENDED]

64. The authority citation for part 234 continues to read as follows:

Authority: 49 U.S.C. 20103, 20107, 20152, 20160, 21301, 21304, 21311, 22501 note; Pub. L. 110-432, Div. A., Sec. 202, 28 U.S.C. 2461, note; and 49 CFR 1.89.

§ 234.6 [Amended]

65. In § 234.6, amend paragraph (a) as follows:

a. Remove the numerical amount “$650” and add in its place the numerical amount “$839”;

b. Remove the numerical amount “$25,000” and add in its place the numerical amount “$27,455”; and

c. Remove the numerical amount “$105,000” and add in its place the numerical amount “$109,819”.

Appendix A to Part 234—[Amended]

66. In appendix A to part 234, amend footnote 1 by removing the numerical amount “$105,000” and adding in its place the numerical amount “$109,819”.

PART 235—[AMENDED]

67. The authority citation for part 235 continues to read as follows:

Authority: 49 U.S.C. 20103, 20107; 28 U.S.C. 2461, note; and 49 CFR 1.89.

§ 235.9 [Amended]

68. Amend § 235.9 as follows:

a. Remove the numerical amount “$650” and add in its place the numerical amount “$839”;

b. Remove the numerical amount “$25,000” and add in its place the numerical amount “$27,455”; and

c. Remove the numerical amount “$105,000” and add in its place the numerical amount “$109,819”.

Appendix A to Part 235—[Amended]

69. In appendix A to part 235, amend footnote 1 by removing the numerical amount “$105,000” and adding in its place the numerical amount “$109,819”.

PART 236—[AMENDED]

70. The authority citation for part 236 continues to read as follows:

Authority: 49 U.S.C. 20102-20103, 20107, 20133, 20141, 20157, 20301-20303, 20306, 20501-20505, 20701-20703, 21301-21302, 21304; 28 U.S.C. 2461, note; and 49 CFR 1.89.

§ 236.0 [Amended]

71. In § 236.0, amend paragraph (f) as follows:

a. Remove the numerical amount “$650” and add in its place the numerical amount “$839”;

b. Remove the numerical amount “$25,000” and add in its place the numerical amount “$27,455”; and

c. Remove the numerical amount “$105,000” and add in its place the numerical amount “$109,819”.

Appendix A to Part 236—[Amended]

72. In appendix A to part 236, amend footnote 1 by removing the numerical amount “$105,000” and adding in its place the numerical amount “$109,819”.

PART 237—[AMENDED]

73. The authority citation for part 237 is revised to read as follows:

Authority: 49 U.S.C. 20102-20114; Public Law 110-432, Div. A, Sec. 417; 28 U.S.C. 2461, note; and 49 CFR 1.89.

§ 237.7 [Amended]

74. In § 237.7, amend paragraph (a) as follows:

a. Remove the numerical amount “$650” and add in its place the numerical amount “$839”;

b. Remove the numerical amount “$25,000” and add in its place the numerical amount “$27,455”; and

c. Remove the numerical amount “$105,000” and add in its place the numerical amount “$109,819”.

Appendix B to Part 237—[Amended]

75. In appendix B to part 237, amend footnote 1 by removing the numerical amount “$105,000” and adding in its place the numerical amount “$109,819”.

PART 238—[AMENDED]

76. The authority citation for part 238 continues to read as follows:

Authority: 49 U.S.C. 20103, 20107, 20133, 20141, 20302-20303, 20306, 20701-20702, 21301-21302, 21304; 28 U.S.C. 2461, note; and 49 CFR 1.89.

§ 238.11 [Amended]

77. In § 238.11, amend paragraph (a) as follows:

a. Remove the numerical amount “$650” and add in its place the numerical amount “$839”;

b. Remove the numerical amount “$25,000” and add in its place the numerical amount “$27,455”; and

c. Remove the numerical amount “$105,000” and add in its place the numerical amount “$109,819”.

Appendix A to Part 238—[Amended]

78. In appendix A to part 238, amend footnote 1 as follows:

a. Remove the numerical amount “$16,000” and add in its place the numerical amount “$27,455”; and

b. Remove the numerical amount “$105,000” and add in its place the numerical amount “$109,819”.

PART 239—[AMENDED]

79. The authority citation for part 239 is revised to read as follows:

Authority: 49 U.S.C. 20102-20103, 20105-20114, 20133, 21301, 21304, and 21311; 28 U.S.C. 2461, note; and 49 CFR 1.89.

§ 239.11 [Amended]

80. Amend § 239.11 as follows:

a. Remove the numerical amount “$650” and add in its place the numerical amount “$839”;

b. Remove the numerical amount “$25,000” and add in its place the numerical amount “$27,455”; and

c. Remove the numerical amount “$105,000” and add in its place the numerical amount “$109,819”.

Appendix A to Part 239—[Amended]

81. In appendix A to part 239, amend footnote 1 by removing the numerical amount “$105,000” and adding in its place the numerical amount “$109,819”.

PART 240—[AMENDED]

82. The authority citation for part 240 is revised to read as follows:

Authority: 49 U.S.C. 20103, 20107, 20135, 21301, 21304, 21311; 28 U.S.C. 2461, note; and 49 CFR 1.89.

§ 240.11 [Amended]

83. In § 240.11, amend paragraph (a) as follows:

a. Remove the numerical amount “$650” and add in its place the numerical amount “$839”;

b. Remove the numerical amount “$25,000” and add in its place the numerical amount “$27,455”; and

c. Remove the numerical amount “$105,000” and add in its place the numerical amount “$109,819”.

Appendix A to Part 240—[Amended]

84. In appendix A to part 240, amend footnote 1 by removing the numerical amount “$105,000” and adding in its place the numerical amount “$109,819”.

PART 241—[AMENDED]

85. The authority citation for part 241 is revised to read as follows:

Authority: 49 U.S.C. 20103, 20107, 21301, 21304, 21311; 28 U.S.C. 2461, note; 49 CFR 1.89.

§ 241.15 [Amended]

86. In § 241.15, amend paragraph (a) as follows:

a. Remove the numerical amount “$650” and add in its place the numerical amount “$839”;

b. Remove the numerical amount “$25,000” and add in its place the numerical amount “$27,455”; and

c. Remove the numerical amount “$105,000” and add in its place the numerical amount “$109,819”.

Appendix B to Part 241—[Amended]

87. In appendix B to part 241, amend footnote 1 by removing the numerical amount “$105,000” and adding in its place the numerical amount “$109,819”.

PART 242—[AMENDED]

88. The authority citation for part 242 is revised to read as follows:

Authority: 49 U.S.C. 20103, 20107, 20135, 20138, 20162, 20163, 21301, 21304, 21311; 28 U.S.C. 2461, note; and 49 CFR 1.89.

§ 242.11 [Amended]

89. In § 242.11, amend paragraph (a) as follows:

a. Remove the numerical amount “$650” and add in its place the numerical amount “$839”;

b. Remove the numerical amount “$25,000” and add in its place the numerical amount “$27,455”; and

c. Remove the numerical amount “$105,000” and add in its place the numerical amount “$109,819”.

Appendix A to Part 242—[Amended]

90. In appendix A to part 242, amend footnote 1 by removing the numerical amount “$105,000” and adding in its place the numerical amount “$109,819”.

PART 243—[AMENDED]

91. The authority citation for part 243 continues to read as follows:

Authority: 49 U.S.C. 20103, 20107, 20131-20155, 20162, 20301-20306, 20701-20702, 21301-21304, 21311; 28 U.S.C. 2461, note; and 49 CFR 1.89.

§ 243.7 [Amended]

92. In § 243.7, amend paragraph (a) as follows:

a. Remove the numerical amount “$650” and add in its place the numerical amount “$839”;

b. Remove the numerical amount “$25,000” and add in its place the numerical amount “$27,455”; and

c. Remove the numerical amount “$100,000” and add in its place the numerical amount “$109,819”.

Appendix to Part 243—[Amended]

93. In appendix to part 243, amend footnote 1 by removing the numerical amount “$100,000” and adding in its place the numerical amount “$109,819”.

PART 244—[AMENDED]

94. The authority citation for part 244 is revised to read as follows:

Authority: 49 U.S.C. 20103, 20107, 21301; 5 U.S.C. 553 and 559; 28 U.S.C. 2461, note; and 49 CFR 1.89.

§ 244.5 [Amended]

95. In § 244.5, amend paragraph (a) as follows:

a. Remove the numerical amount “$650” and add in its place the numerical amount “$839”;

b. Remove the numerical amount “$25,000” and add in its place the numerical amount “$27,455”; and

c. Remove the numerical amount “$100,000” and add in its place the numerical amount “$109,819”.

PART 272—[AMENDED]

96. The authority citation for part 272 continues to read as follows:

Authority: 49 U.S.C. 20103, 20107, 20109, note; 28 U.S.C. 2461, note; 49 CFR 1.89; and sec. 410, Div. A, Pub. L. 110-432, 122 Stat. 4888.

§ 272.11 [Amended]

97. In § 272.11, amend paragraph (a) as follows:

a. Remove the numerical amount “$650” and add in its place the numerical amount “$839”;

b. Remove the numerical amount “$25,000” and add in its place the numerical amount “$27,455”; and

c. Remove the numerical amount “$105,000” and add in its place the numerical amount “$109,819”.

Appendix A to Part 272—[Amended]

98. In appendix A to part 272, amend footnote 1 by removing the numerical amount “$105,000” and adding in its place the numerical amount “$109,819”.

Corey Hill,
Executive Director.

Note: The following appendix will not appear in the Code of Federal Regulations.

Appendix: Step-by-Step Calculations To Determine Civil Monetary Penalty Updates: 2016

These calculations follow guidance by the Office of Management and Budget, M-16-06, “Implementation of the Federal Civil Penalties Inflation Adjustment Act Improvements Act of 2015,” dated Feb. 24, 2016. In brief, the minimum civil monetary penalty (CMP) increases from $650 to $839, the ordinary maximum CMP increases from $25,000 to $27,455, and the aggravated maximum CMP increases from $105,000 to $109,819 under the Federal Civil Penalties Inflation Adjustment Act Improvements Act of 2015.

Minimum CMP

The current minimum CMP was last adjusted by statute or regulation in 1992 ($500), other than for inflation. See Rail Safety Enforcement and Review Act, Public Law 102-365, 106 Stat. 972 (Sept. 3, 1992).

Step 1

Determine the year and amount that the maximum penalty level or the range of minimum and maximum penalties was established or last adjusted by statute or regulation (exclude any previous adjustments made under the Inflation Adjustment Act); then, identify the corresponding multiplier from Table A, Column B.²

² Table A is provided below.

a. = Year 1992 b. = Multiplier 1.67728 c. = Penalty Level or Range $500

Step 2

Use the applicable multiplier (b.) to multiply the penalty level or range (c.) and achieve the penalty level or range adjusted for inflation (d.). Round to the nearest dollar.

d. = (b.) × (c.) = Inflation-Adjusted Penalty Level or Range

$838.64 Rounded to the nearest dollar $839

Step 3

Identify the penalty level(s) in effect on November 2, 2015, including Inflation Adjustment Act increases.

e. = November 2, 2015, Penalty Level or Range $650

Step 4

Multiply the November 2, 2015 level(s) (e.) by 2.5 to achieve a 150 percent increase (f.). Round to the nearest dollar.

f. = (e.) × 2.5 = 150 percent increase $1,625

Rounded to the nearest dollar $1,625

Step 5

Compare the amounts of (d.) and (f.). If the maximum penalty level or range in (d.) is larger than the maximum penalty level or range in (f.), the 150 percent limit applies, and the penalty level or range in (f.) should be selected.

The new “catchup” penalty level is the lesser of (d.) or (f.): $839

This is the new maximum civil monetary penalty level (or range of minimum and maximum civil monetary penalty levels), which applies (apply) to any civil monetary penalties assessed on or after the effective date of the adjustment.

Table A—2016 Civil Monetary Penalty Catch-Up Adjustment Multiplier by Calendar Year
[Select multiplier based on the latest year when the penalty level was established (originally enacted by Congress) or last adjusted by statute or regulation (other than pursuant to the Inflation Adjustment Act before November 2, 2015)]
A: Year | B: Multiplier
1992 | 1.67738
1993 | 1.63238
1994 | 1.59089
1995 | 1.54742
1996 | 1.50245
1997 | 1.47177
1998 | 1.45023
1999 | 1.41402
2000 | 1.36689
2001 | 1.33842
2002 | 1.31185
2003 | 1.28561
2004 | 1.24588
2005 | 1.19397
2006 | 1.17858
2007 | 1.13833
2008 | 1.09819
2009 | 1.10020
2010 | 1.08745
2011 | 1.05042
2012 | 1.02819
2013 | 1.01838
2014 | 1.00171
2015 | 1.00000

Ordinary Maximum CMP

The ordinary maximum CMP ($25,000) was last adjusted by statute or regulation in 2008. See RSIA of 2008, Public Law 110-342, Div. A, 122 Stat. 4848, (Oct. 16, 2008), Sec. 302; 73 FR 79698 (Dec. 30, 2008).

Step 1

Determine the year and amount that the maximum penalty level or the range of minimum and maximum penalties was established or last adjusted by statute or regulation (exclude any previous adjustments made under the Inflation Adjustment Act); then, identify the corresponding multiplier from Table A, Column B.

a. = Year 2008 b. = Multiplier 1.09819 c. = Penalty Level or Range $25,000

Step 2

Use the applicable multiplier (b.) to multiply the penalty level or range (c.) and achieve the penalty level or range adjusted for inflation (d.). Round to the nearest dollar.

d. = (b.) × (c.) = Inflation-Adjusted Penalty Level or Range $27,454.75 Rounded to the nearest dollar $27,455

Step 3

Identify the penalty level(s) in effect on November 2, 2015, including Inflation Adjustment Act increases.

e. = November 2, 2015, Penalty Level or Range $25,000

Step 4

Multiply the November 2, 2015 level(s) (e.) by 2.5 to achieve a 150 percent increase (f.). Round to the nearest dollar.

f. = (e.) × 2.5 = 150 percent increase $62,500

Rounded to the nearest dollar $62,500

Step 5

Compare the amounts of (d.) and (f.). If the maximum penalty level or range in (d.) is larger than the maximum penalty level or range in (f.), the 150 percent limit applies, and the penalty level or range in (f.) should be selected.

The new “catchup” penalty level is the lesser of (d.) or (f.): $27,455

This is the new maximum civil monetary penalty level (or range of minimum and maximum civil monetary penalty levels), which applies (apply) to any civil monetary penalties assessed on or after the effective date of the adjustment.

Aggravated Maximum CMP

The aggravated maximum CMP ($100,000) was last adjusted by statute or regulation in 2008. See RSIA of 2008, Public Law 110-342, Div. A, 122 Stat. 4848, (Oct. 16, 2008), Sec. 302; 73 FR 79698 (Dec. 30, 2008).

Step 1

Determine the year and amount that the maximum penalty level or the range of minimum and maximum penalties was established or last adjusted by statute or regulation (exclude any previous adjustments made under the Inflation Adjustment Act); then, identify the corresponding multiplier from Table A, Column B.

a. = Year 2008 b. = Multiplier 1.09819 c. = Penalty Level or Range $100,000

Step 2

Use the applicable multiplier (b.) to multiply the penalty level or range (c.) and achieve the penalty level or range adjusted for inflation (d.). Round to the nearest dollar.

d. = (b.) × (c.) = Inflation-Adjusted Penalty Level or Range $109,819 Rounded to the nearest dollar $109,819

Step 3

Identify the penalty level(s) in effect on November 2, 2015, including Inflation Adjustment Act increases.

e. = November 2, 2015, Penalty Level or Range $105,000

Step 4

Multiply the November 2, 2015 level(s) (e.) by 2.5 to achieve a 150 percent increase (f.). Round to the nearest dollar.

f. = (e.) × 2.5 = 150 percent increase $262,500

Rounded to the nearest dollar $262,500

Step 5

Compare the amounts of (d.) and (f.). If the maximum penalty level or range in (d.) is larger than the maximum penalty level or range in (f.), the 150 percent limit applies, and the penalty level or range in (f.) should be selected.

The new “catchup” penalty level is the lesser of (d.) or (f.): $109,819

This is the new maximum civil monetary penalty level (or range of minimum and maximum civil monetary penalty levels), which applies (apply) to any civil monetary penalties assessed on or after the effective date of the adjustment.

[FR Doc. 2016-15641 Filed 6-30-16; 8:45 am]

BILLING CODE 4910-06-P